DEPARTMENT OF COMMERCE

National Oceanic and Atmospheric Administration

RIN: 0648-XH59

North Pacific Fishery Management Council; Public Meeting

AGENCY: National Marine Fisheries Service (NMFS), National Oceanic and Atmospheric Administration (NOAA), Commerce.

ACTION: Notice of a public meeting.

SUMMARY: The North Pacific Fishery Management Council's (Council) Pacific Northwest Crab Industry Advisory Committee (PNCIAC) will meet in Seattle, WA. The meeting is open to the public.

DATES: The meeting will be held on Monday, May 19, 2008, from 9 a.m. to 12 noon.

ADDRESSES: The meeting will be held at Leif Erikson Hall, 2245 NW 57th Street, 3rd Floor, Norna Room, Seattle, WA 98107 (in Ballard); telephone: (206) 783-1274.

Council address: North Pacific Fishery Management Council, 605 W. 4th Ave., Suite 306, Anchorage, AK 99501-2252.

FOR FURTHER INFORMATION CONTACT: Dr. Diana Stram, Council Staff, telephone: (907) 271-2809.

SUPPLEMENTARY INFORMATION: The PNCIAC will review the Metadata table and related documentation, which is part of the mandatory economic data reporting (EDR) process for the Bering Sea and Aleutian Islands (BSAI) Crab Rationalization program. The PNCIAC will develop recommendations and report back to the Council.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: April 29, 2008.
Tracey L. Thompson,
Acting Director, Office of Sustainable Fisheries, National Marine Fisheries Service.

[FR Doc. E8-9654 Filed 5-1-08; 8:45 am]

BILLING CODE 3510-22-S